DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revisions and three-year extension to the following Petroleum Supply Forms: EIA-800, “Weekly Refinery and Fractionator Report;” EIA-801, “Weekly Bulk Terminal Report;” EIA-802, “Weekly Product Pipeline Report;” EIA-803, “Weekly Crude Oil Stocks Report;” EIA-804, “Weekly Imports Report;” EIA-805, “Weekly Terminal Blenders Report;” EIA-810, “Monthly Refinery Report;” EIA-811, “Monthly Bulk Terminal Report;” EIA-812, “Monthly Product Pipeline Report;” EIA-813, “Monthly Crude Oil Report;” EIA-814, “Monthly Imports Report;” EIA-815, “Monthly Terminal Blenders Report;” EIA-816, “Monthly Natural Gas Liquids Report;” EIA-817, “Monthly Tanker and Barge Movement Report;” EIA-819, “Monthly Oxygenate Report;” and EIA-820, “Annual Refinery Report.”

DATES: Comments must be filed by June 27, 2008. If you anticipate difficulty in submitting comments within that period, contact the person listed below as soon as possible.

ADDRESSES: Send comments to Sylvia Norris. To ensure receipt of the comments by the due date, submission by FAX (202-586-1076) or e-mail (sylvia.norris@eia.doe.gov) is recommended. The mailing address is Petroleum Division, EI-42, Forrestal Building, U.S. Department of Energy, Washington, DC 20585. Alternatively, Sylvia Norris may be contacted by telephone at 202-586-6106.

FOR FURTHER INFORMATION CONTACT: Requests for additional information or copies of any forms and instructions should be directed to Sylvia Norris at the address listed above. The proposed forms and changes in definitions and instructions are also available on the Internet at: http://www.eia.doe.gov/oil_gas/petroleum/survey_forms/pet_survey_forms.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA prepare data requests that maximize the utility of the information collected, and to assess the impact of collection requirements on the public. Also, the EIA will later seek approval for this collection by the Office of Management and Budget (OMB) under Section 3507(a) of the Paperwork Reduction Act of 1995.

The weekly petroleum supply surveys (Forms EIA-800, EIA-801, EIA-802, EIA-803, EIA-804, and EIA-805) are designed to highlight information on petroleum refinery operations, inventory levels, and imports of selected petroleum products in a timely manner. The information appears in the publications listed below and is also available electronically through the Internet at http://www.eia.doe.gov/.

Publications: Internet only publications are the Weekly Petroleum Status Report, Short-Term Energy Outlook, and This Week in Petroleum.

The monthly petroleum supply surveys (Forms EIA-810, EIA-811, EIA-812, EIA-813, EIA-814, EIA-815, EIA-816, EIA-817, and EIA-819) are designed to provide statistically reliable and comprehensive information not available from other sources to EIA, other Federal agencies, and the private sector for use in forecasting, policy making, planning, and analysis activities. The information appears in the publications listed below and is also available electronically through the Internet at http://www.eia.doe.gov/.

Publications: Internet only publications are the Petroleum Supply Monthly, Petroleum Supply Annual, and Short-Term Energy Outlook. Hardcopy and internet publications are the Monthly Energy Review (DOE/EIA-0035), the Annual Energy Review (DOE/EIA-0384), and the Annual Energy Outlook (DOE/EIA-0383).

The annual petroleum supply survey (Form EIA-820) provides data on the operations of all operating and idle petroleum refineries (including new refineries under construction), blending plants, refineries shutdown with useable storage capacity, and refineries shutdown during the previous year. The information appears in the Refinery Capacity Report and in the Petroleum Supply Annual, Volume 1 are available electronically through the Internet at http://www.eia.doe.gov/.

II. Current Actions

The EIA will request the collection approval for each of the above-referenced surveys for a three-year period. Additionally, as a means of improving its petroleum supply surveys to reflect changing regulations and changes in the petroleum industry, the EIA proposes the following changes effective with the 2009 collection period:

EIA-810 (Monthly Refinery Report)—Collect hydrogen input as a separate product. Currently, hydrogen input is included with input of “other” hydrocarbons; collect ethanol production due to addition of denaturant at refineries; collect inputs, production, and stocks of renewable fuels including biomass-based diesel fuel, other renewable diesel fuel, and other renewable fuels.

EIA-811 (Monthly Bulk Terminal Report)—Collect stocks of renewable fuels including biomass-based diesel fuel, other renewable diesel fuel, and other renewable fuels.

EIA-812 (Monthly Product Pipeline Report)—Collect stocks and inter-PAD District movements of renewable fuels including fuel ethanol, biomass-based diesel fuel, other renewable diesel fuel, and other renewable fuels.

EIA-814 (Monthly Imports Report)—Collect imports of renewable fuels including biomass-based diesel fuel, other renewable diesel fuel, and other renewable fuels; Collect hydrogen input as a separate product (currently, hydrogen input is included with input of “other” hydrocarbons).

EIA-815 (Monthly Terminal Blenders Report)—Change the survey name to Monthly Bulk Terminal and Blender Report. Extensive modifications are proposed on Form EIA-815 including addition of beginning stocks, receipts, shipments, fuel use and loss, and ending stocks to the existing input and production columns currently reported on the survey. In addition, Form EIA-815 will be expanded to collect data for all of the products currently listed on Form EIA-811 as well as new renewable fuels products. The Form EIA-815 will collect data at the site level, while the Form EIA-811 will collect data at the state level for comparison purposes. Specific product additions include biomass-based diesel fuel, other renewable diesel fuel, other renewable fuels, finished aviation gasoline, special naphthas (solvents), kerosene, kerosene-type jet fuel, distillate fuel oil by sulfur category (15 ppm sulfur and under, greater than 15 ppm to 500 ppm sulfur (inclusive), and greater than 500 ppm sulfur), lubricants, asphalt and road oil, miscellaneous products, residual fuel oil by sulfur category (under 0.31% sulfur, 0.31%-1.00% sulfur (inclusive), and over 1.00% sulfur), ethane/ethylene, ethylene, propane/propylene, propylene (nonfuel use), Normal Butane/Butylene (replaces current normal butane), refinery-grade butane, isobutane/isobutylene, and unfinished oils including separate categories for naphthas and lighter, kerosene and light gas oils, heavy gas oils, and residuum. The product “other hydrocarbons” and hydrogen (code 094) will be removed from the updated version of Form EIA-815. Changes to Form EIA-815 are intended as preparation for phase-out of Form EIA-811 “Monthly Bulk Terminal Report” in 2010. All bulk terminals will report on a site basis with a full material balance in order to more fully capture product blending activity for motor gasoline, distillate fuel oil, and other products.

EIA-817 (Monthly Tanker and Barge Movement Report)—Collect inter-PAD District movements of fuel ethanol, biomass-based diesel fuel, other renewable diesel fuel, and other renewable fuels.

EIA-819 (Monthly Oxygenate Report)—Collect data by site instead of by PAD District; collect inputs of fuel ethanol; collect inputs and stocks of pentanes plus; collect inputs, production and stocks of finished reformulated gasoline (blended with ether), finished reformulated gasoline (blended with alcohol), finished reformulated (non-oxygenated), finished conventional (blended with alcohol), finished conventional (other), reformulated blendstock for oxygenate blending (RBOB) for blending with ether, reformulated blendstock for oxygenate blending (RBOB) for blending with alcohol, conventional blendstock for oxygenated blending (CBOB), reformulated and conventional gasoline treaded as blendstock (GTAB), and all other motor gasoline blending components.

EIA-820 (Annual Refinery Report)—Add natural gas feedstock use for hydrogen production as a separate category; Collect isooctane barrels per stream day production capacity. This category is being added to pickup capacity from converted MTBE units that produce isooctane.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average:

Estimated hours per response are: EIA-800, “Weekly Refinery and Fractionator Report,”—1.58 hours; EIA-801, “Weekly Bulk Terminal Report,”—0.95 hours; EIA-802, “Weekly Product Pipeline Report,”—0.95 hours; EIA-803, “Weekly Crude Oil Stocks Report,”—0.50 hours; EIA-804, “Weekly Imports Report,”—1.58 hours; EIA-805, “Weekly Terminal Blenders Report,”—0.58 hours; EIA-810, “Monthly Refinery Report,”—5.00 hours; EIA-811, “Monthly Bulk Terminal Report,”—2.50 hours; EIA-812, “Monthly Product Pipeline Report,”—3.00 hours; EIA-813, “Monthly Crude Oil Report,”—1.50 hours; EIA-814, “Monthly Imports Report,”—2.55 hours; EIA-815, “Monthly Bulk Terminal and Blender Report,”—3.55 hours; EIA-816, “Monthly Natural Gas Liquids Report,”—0.95 hours; EIA-817, “Monthly Tanker and Barge Movement Report,”—2.25 hours; EIA-819, “Monthly Oxygenate Report,”—1.50 hours; EIA-820, “Annual Refinery Report”—2.40 hours. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the forms. They also will become a matter of public record.

Statutory Authority: Section 3507(h)(1) of the Paperwork Reduction Act of 1995 (Pub. L. 104-13, 44 U.S.C. Chapter 35), Federal Energy Administration Act of 1974 (Pub. L. 93-275, 15 U.S.C. 761 et seq.), and the DOE Organization Act (Pub. L. 95-91, 42 U.S.C. 7101 et seq.).

Issued in Washington, DC, April 22, 2008.
Jay H. Casselberry,
Agency Clearance Officer, Energy Information Administration.

[FR Doc. E8-9215 Filed 4-25-08; 8:45 am]

BILLING CODE 6450-01-P